DEPARTMENT OF HOMELAND SECURITY

Coast Guard

46 CFR Parts 1, 2, 4, 62, 111, 120, 129, 133, 401, and 402

49 CFR Parts 450, 451, 452, and 453

[Docket No. USCG-2011-0618]

RIN 1625-AB77

Shipping and Transportation; Technical, Organizational, and Conforming Amendments

AGENCY: Coast Guard, DHS.

ACTION: Final rule.

SUMMARY: This final rule makes non-substantive changes throughout Titles 46 and 49 of the Code of Federal Regulations. The purpose of this rule is to make conforming amendments and technical corrections to Coast Guard shipping and transportation regulations. This rule will have no substantive effect on the regulated public. These changes are provided to coincide with the annual recodification of Titles 46 and 49 on October 1, 2011.

DATES: This final rule is effective September 30, 2011.

ADDRESSES: Comments and material received from the public, as well as documents mentioned in this preamble as being available in the docket, are part of docket USCG-2011-0618 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2011-0618 in the “Keyword” box, and then clicking “Search.”

FOR FURTHER INFORMATION CONTACT: If you have questions on this rule, call or e-mail Paul Crissy, Coast Guard; telephone 202-372-1093, e-mail Paul.H.Crissy@uscg.mil. If you have questions on viewing the docket, call Renee V. Wright, Program Manager, Docket Operations, telephone 202-366-9826.

SUPPLEMENTARY INFORMATION:

Table of Contents for Preamble

I. Regulatory History

II. Background

III. Basis and Purpose

IV. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Regulatory History

We did not publish a notice of proposed rulemaking (NPRM) for this rule. Under 5 U.S.C. 553(b)(A) and (b)(B) the Coast Guard finds this rule is exempt from notice and comment rulemaking requirements because these changes involve rules of agency organization, procedure, or practice. In addition, good cause exists for not publishing an NPRM for all revisions in the rule because the revisions are all non-substantive changes. This rule consists only of corrections and editorial, organizational, and conforming amendments. These changes will have no substantive effect on the public. Under 5 U.S.C. 553(d)(3), the Coast Guard finds that, for the same reasons, good cause exists for making this rule effective upon publication in the Federal Register.

II. Background

Each year, the printed editions of Titles 46 and 49 of the Code of Federal Regulations are recodified on October 1. This rule, which becomes effective September 30, 2011, makes technical and editorial corrections throughout Titles 46 and 49. This rule does not create any substantive requirements.

III. Basis and Purpose

This rule amends 46 CFR 1.03-15 to change the addressee for appeals involving decisions or actions of the Director, Great Lakes Pilotage from CG-5 to CG-55 to better reflect the agency organization of the Coast Guard.

This rule amends 46 CFR 2.10-20 by changing the mailing address for payment of fees related to vessel inspections. We also reformatted the paragraph by creating separate paragraphs broken down by type of fee, i.e., one subparagraph for payment of Certificate of Inspection and Certificate of Compliance fees and a second subparagraph for payment of Overseas Inspection fees. We then created subparagraphs broken down by method of payment, i.e., credit card, check by postal service, and check by overnight courier. This reformatting does not change any substantive requirements, but was done to make it easier to find the correct mailing address for the type of inspection and the method of payment.

This rule amends 46 CFR 4.05-1 so that it refers to § 160.204, the section for definitions, instead of referring to section 160.203, the section for exemptions.

This rule amends 46 CFR 62.35-5 to change the word “then” to “than” and to remove the reference to subparagraph (a) in the citation to § 62.35-35(a) as this subparagraph no longer exists.

This rule amends 46 CFR 111.79-9 by removing the reference to § 111.79-7, which no longer exists, and replacing it with §§ 111.79-1(d) and 111.79-3 where the requirements of former § 111.79-7 were moved by the Coast Guard's “Amendment to Electrical Engineering Requirements for Merchant Vessels” 61 FR 28260 (June 4, 1996).

This rule amends 46 CFR 120.312 by removing the reference to 46 CFR 111.10-11, which no longer exists.

This rule amends 46 CFR 129.510 to remove the reference to subpart 160.115 which does not exist, and put in its place subpart 160.151, which is the correct subpart related to inflatable liferafts.

This rule amends 46 CFR 133.135 to change the approval series number from 160.056 to 160.156, the correct approval series number. The 160.156 approval series number was published correctly in 1996 in the Coast Guard's “Lifesaving Equipment Rule” 61 FR 25272, at 25308, May 20, 1996, but was erroneously changed in the 2000 Coast Guard “Technical Amendment” 65 FR 58455, at 58463, September 29, 2000.

This rule amends 46 CFR 401.110 by replacing the reference to the Department of Transportation with the Department of Homeland Security in the definition of “Secretary” because the Coast Guard is no longer an agency of the Department of Transportation (DOT), and is now an agency of the Department of Homeland Security (DHS).

This rule amends 46 CFR 402.210 to correct a grammatical error by replacing the word “or” with the word “to”.

This rule amends 49 CFR parts 450, 451, 452, and 453 to correct the authority citations in each part to remove the reference to the statutes at large citation as unnecessary and duplicative and to replace the official code citation of 46 U.S.C. 1503 with 46 U.S.C. 80503 to reflect the recodification of Title 46.

IV. Regulatory Analyses

We developed this rule after considering numerous statutes and executive orders related to rulemaking. Below we summarize our analyses based on 14 of these statutes or executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This final rule has not been designated a “significant regulatory action” under section 3(f) of Executive Order 12866. Accordingly, the final rule has not been reviewed by the Office of Management and Budget. A regulatory analysis was not prepared because this rulemaking involves only technical and administrative changes.

This final rule makes non-substantive changes throughout Titles 46 and 49 of the Code of Federal Regulations. The purpose of this rule is to make conforming amendments and technical corrections to Coast Guard shipping and transportation regulations. This rule will have no substantive effect on the regulated public.

B. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

This final rule makes non-substantive changes throughout Titles 46 and 49 of the Code of Federal Regulations. The purpose of this rule is to make conforming amendments and technical corrections to Coast Guard shipping and transportation regulations. We estimate that this rule will not impose additional costs and should have little or no impact on small entities because the provisions of this rule are technical and non-substantive. Therefore, the Coast Guard certifies under 5 U.S.C. 605(b) that this final rule will not have a significant economic impact on a substantial number of small entities.

C. Assistance for Small Entities

Under section 213(a) of the Small Business Regulatory Enforcement Fairness Act of 1996 (Pub. L. 104-121), we offer to assist small entities in understanding the rule so that they can better evaluate its effects on them and participate in the rulemaking. If the proposed rule would affect your small business, organization, or governmental jurisdiction, and you have questions concerning its provisions or options for compliance, please consult Paul Crissy, Coast Guard; telephone 202-372-1093, e-mail Paul.H.Crissy@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995 (44 U.S.C. 3501-3520).

E. Federalism

A rule has implications for federalism under Executive Order 13132, Federalism, if it has a substantial direct effect on State or local governments and would either preempt State law or impose a substantial direct cost of compliance on them. We have analyzed this rule under that Order and have determined that it does not have implications for federalism.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we discuss the effects of this rule elsewhere in this preamble.

G. Taking of Private Property

This rule will not cause a taking of private property or otherwise have taking implications under Executive Order 12630, Governmental Actions and Interference with Constitutionally Protected Property Rights.

H. Civil Justice Reform

This rule meets applicable standards in sections 3(a) and 3(b)(2) of Executive Order 12988, Civil Justice Reform, to minimize litigation, eliminate ambiguity, and reduce burden.

I. Protection of Children

We have analyzed this rule under Executive Order 13045, Protection of Children from Environmental Health Risks and Safety Risks. This rule is not an economically significant rule and does not create an environmental risk to health or risk to safety that may disproportionately affect children.

J. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

K. Energy Effects

We have analyzed this rule under Executive Order 13211, Actions Concerning Regulations That Significantly Affect Energy Supply, Distribution, or Use. We have determined that it is not a “significant energy action” under that order because it is not a “significant regulatory action” under Executive Order 12866, as supplemented by Executive Order 13563, and is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01 and Commandant Instruction M16475.lD, which guide the Coast Guard in complying with the National Environmental Policy Act of 1969 (NEPA) (42 U.S.C. 4321-4370f), and have concluded that this action is one of a category of actions that do not individually or cumulatively have a significant effect on the human environment. This rule is categorically excluded under section 2.B.2, figure 2-1, paragraphs (34)(a) and (b) of the Instruction. This rule involves regulations that are editorial, procedural, and involve internal agency functions. An environmental analysis checklist and a categorical exclusion determination are available in the docket where indicated under ADDRESSES.

List of Subjects

46 CFR Part 1

Administrative practice and procedure, Organization and functions (Government agencies), Reporting and recordkeeping requirements.

46 CFR Part 2

Marine safety, Reporting and recordkeeping requirements, Vessels.

46 CFR Part 4

Administrative practice and procedure, Drug testing, Investigations, Marine safety, Nuclear vessels, Radiation protection, Reporting and recordkeeping requirements, Safety, Transportation.

46 CFR Part 62

Reporting and recordkeeping requirements, Vessels.

46 CFR Part 111

Vessels.

46 CFR Part 120

Marine safety, Passenger vessels.

46 CFR Part 129

Cargo vessels, Hazardous materials transportation, Marine safety, Reporting and recordkeeping requirements.

46 CFR Part 133

Cargo vessels, Marine safety, Reporting and recordkeeping requirements.

46 CFR Part 401

Administrative practice and procedure, Great Lakes, Navigation (water), Penalties, Reporting and recordkeeping requirements, Seamen.

46 CFR Part 402

Great Lakes, Navigation (water), Seamen.

49 CFR Part 450

Freight, Packaging and containers, Reporting and recordkeeping requirements, Safety.

49 CFR Part 451

Freight, Packaging and containers, Safety.

49 CFR Part 452

Freight, Packaging and containers, Reporting and recordkeeping requirements, Safety.

49 CFR Part 453

Administrative practice and procedure, Freight, Packaging and containers, Safety.

For the reasons discussed in the preamble, the Coast Guard amends 46 CFR parts 1, 2, 4, 62, 111, 120, 129, 133, 401, and 402 and 49 CFR parts 450, 451, 452, and 453 as follows:

Title 46

PART 1—ORGANIZATION, GENERAL COURSE AND METHODS GOVERNING MARINE SAFETY FUNCTIONS

1. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

§ 1.03-15 [Amended]

2. In § 1.03-15(h)(5), following the words “Commandant (CG-”, remove the number “5” and add, in its place, the number “55”.

PART 2—VESSEL INSPECTIONS

3. The authority citation for part 2 continues to read as follows:

Authority: 33 U.S.C. 1903; 43 U.S.C. 1333; 46 U.S.C. 2110, 3103, 3205, 3306, 3307, 3703; 46 U.S.C. Chapter 701; E.O. 12234, 45 FR 58801, 3 CFR, 1980 Comp., p. 277; Department of Homeland Security Delegation No. 0170.1. Subpart 2.45 also issued under the Act Dec. 27, 1950, Ch. 1155, secs. 1, 2, 64 Stat. 1120 (see 46 U.S.C. App. Note prec. 1).

4. Revise § 2.10-20(d) to read as follows:

§ 2.10-20 General requirements.

* * * * *

(d) Unless otherwise specified, fees required by this subpart must be mailed to the following addresses:

(1) For COI and COC Inspections:

(i) For payment by credit card, U.S. Coast Guard Finance Center (OGR), 1430A Kristina Way, Chesapeake, VA 23326.

(ii) For payment by check, made payable to U.S. Treasury, with delivery by postal service, USCG Inspection Fees, P.O. Box 531030, Atlanta, GA 30353-1030.

(iii) For payment by check, made payable to U.S. Treasury, with delivery by overnight courier, USCG Vessel Inspection Fees, Bank of America, Lockbox Number 531030 (COI), 1075 Loop Road, Atlanta, GA 30337-6002.

(2) For Overseas Inspection Fees:

(i) For payment by credit card, U.S. Coast Guard Finance Center (OGR), 1430A Kristina Way, Chesapeake, VA 23326.

(ii) For payment by check, made payable to U.S. Treasury, with delivery by postal service, USCG User Fees, P.O. Box 531769, Atlanta, GA 30353-1769.

(iii) For payment by check, made payable to U.S. Treasury, with delivery by overnight courier, USCG User Fees, Bank of America, Lockbox Number 531769 (USF), 1075 Loop Road, Atlanta, GA 30337-6002.

* * * * *

PART 4—MARINE CASUALTIES AND INVESTIGATIONS

5. The authority citation for part 4 continues to read as follows:

Authority: 33 U.S.C. 1231; 43 U.S.C. 1333; 46 U.S.C. 2103, 2303a, 2306, 6101, 6301, and 6305; 50 U.S.C. 198; Department of Homeland Security Delegation No. 0170.1. Subpart 4.40 issued under 49 U.S.C. 1903(a)(1)(E).

§ 4.05-1 [Amended]

6. In § 4.05-1(b), following the words “defined by 33 CFR”, remove the number “160.203”, and add, in its place, the number “160.204”.

PART 62—VITAL SYSTEM AUTOMATION

7. The authority citation for part 62 continues to read as follows:

Authority: 46 U.S.C. 3306, 3703, 8105; E.O. 12234, 45 FR 58801, 3 CFR, 1980 Comp., p. 277; Department of Homeland Security Delegation No. 0170.1.

§ 62.35-5 [Amended]

8. In § 62.35-5(c)(3), after the words “starting capability less”, remove the word “then”, and add, in its place, the word “than”; and following the words “that required by § ”, remove the text “62.35-35(a)”, and add, in its place, the text “62.35-35”.

PART 111—ELECTRIC SYSTEMS—GENERAL REQUIREMENTS

9. The authority citation for part 111 continues to read as follows:

Authority: 46 U.S.C. 3306, 3703; Department of Homeland Security Delegation No. 0170.1.

§ 111.79-9 [Amended]

10. In § 111.79-9(b), following the words “plug must meet § ”, remove the number “111.79-7”, and add, in its place, the text “111.79-1(d) or § 111.79-3”.

PART 120—ELECTRICAL INSTALLATION

11. The authority citation for part 120 continues to read as follows:

Authority: 46 U.S.C. 2103, 3306; E.O. 12234, 45 FR 58801, 3 CFR, 1980 Comp., p. 277; Department of Homeland Security Delegation No. 0170.1.

§ 120.312 [Amended]

12. In § 120.312(b), following the numbers “111.10-4, 111.10-5,”, add the word “and”; and following the number “111.10-9”, remove the number “, 111.10-11”.

PART 129—ELECTRICAL INSTALLATIONS

13. The authority citation for part 129 continues to read as follows:

Authority: 46 U.S.C. 3306; Department of Homeland Security Delegation No. 0170.1.

§ 129.510 [Amended]

14. In § 129.510, following the words “subparts 160.015 or”, remove the number “160.115”, and add, in its place, the number “160.151”.

PART 133—LIFESAVING SYSTEMS

15. The authority citation for part 133 continues to read as follows:

Authority: 46 U.S.C. 3306, 3307; Department of Homeland Security Delegation No. 0170.1.

§ 133.135 [Amended]

16. In § 133.135(a), following the words “approval series”, remove the number “160.056”, and add, in its place, the number “160.156”.

PART 401—GREAT LAKES PILOTAGE REGULATIONS

17. The authority citation for part 401 continues to read as follows:

Authority: U.S.C. 2104(a), 6101, 7701, 8105, 9303, 9304; Department of Homeland Security Delegation No. 0170.1; 46 CFR 401.105 also issued under the authority of 44 U.S.C. 3507.

§ 401.110 [Amended]

18. In § 401.110(a)(7), following the words “the Secretary of”, remove the word “Transportation”, and add, in its place, the words “Homeland Security”.

PART 402—GREAT LAKES PILOTAGE RULES AND ORDERS

19. The authority citation for part 402 continues to read as follows:

Authority: 46 U.S.C. 2104(a), 8105, 9303, 9304.

§ 402.210 [Amended]

20. In § 402.210(a), following the words “physical condition, and competency”, remove the word “or”, and add, in its place, the word “to”.

Title 49

PART 450—GENERAL

21. The authority citation for part 450 is revised to read as follows:

Authority: 46 U.S.C. 80503; Department of Homeland Security Delegation No. 0170.1.

PART 451—TESTING AND APPROVAL OF CONTAINERS

22. The authority citation for part 451 is revised to read as follows:

Authority: 46 U.S.C. 80503; Department of Homeland Security Delegation No. 0170.1.

PART 452—EXAMINATION OF CONTAINERS

23. The authority citation for part 452 is revised to read as follows:

Authority: 46 U.S.C. 80503; Department of Homeland Security Delegation No. 0170.1.

PART 453—CONTROL AND ENFORCEMENT

24. The authority citation for part 453 is revised to read as follows:

Authority: 46 U.S.C. 80503; Department of Homeland Security Delegation No. 0170.1.

Dated: September 27, 2011.
Kathryn Sinniger,
Chief, Office of Regulations and Administrative Law, United States Coast Guard.

[FR Doc. 2011-25276 Filed 9-29-11; 8:45 am]

BILLING CODE 9110-04-P